DEPARTMENT OF TRANSPORTATION

Maritime Administration

Marine Transportation System National Advisory Council

ACTION: National Advisory Council Public Meeting; Notice

SUMMARY: The Maritime Administration announces that the Marine Transportation System (MTS) National Advisory Council (MTSNAC) will hold a meeting to discuss SEA-21, MTS Security, and other MTS related issues. A public comment period is scheduled for 1 p.m.-1:30 p.m. on Tuesday, May 14, 2002. To provide time for as many people to speak as possible, speaking time for each individual will be limited to three minutes. Members of the public who would like to speak are asked to contact Raymond Barberesi by May 6, 2002. Commenters will be placed on the agenda in the order in which notifications are received. If time allows, additional comments will be permitted. Copies of oral comments must be submitted in writing at the meeting. Additional written comments are welcome and must be filed by May 21, 2002. Send comments to the attention of Mr. Raymond Barberesi, Director, Office of Ports and Domestic Shipping, U.S. Maritime Administration, 400 7th Street, SW, Room 7201, Washington, DC 20590.

DATES: The meeting will be held on Monday, May 13, 2002, from 1:30 p.m. to 5 p.m. and Tuesday, May 14, 2002, from 8:30 a.m. to 3:30 p.m.

ADDRESSES: The meeting will be held at the Windsor Court Hotel, 300 Gravier Street, New Orleans, Louisiana 70130.

FOR FURTHER INFORMATION CONTACT: Raymond Barberesi, (202) 366-4357; Maritime Administration, MAR-830, Room 7201, 400 Seventh St., SW, Washington, DC 20590; Raymond.Barberesi@marad.dot.gov.

(Authority: 5 U.S.C. App 2, Sec. 9(a)(2); 41 CFR Part 102-3; DOT Order 1120.3B)
Dated: April 17, 2002.
Joel C. Richard,
Secretary, Maritime Administration.

[FR Doc. 02-9970 Filed 4-23-02; 8:45 am]

BILLING CODE 4910-81-P